DEPARTMENT OF TRANSPORTATION

Office of the Secretary

Notice of Applications for Certificates of Public Convenience and Necessity and Foreign Air Carrier Permits Filed Under Subpart B (Formerly Subpart Q) During the Week Ending March 22, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-11894.

Date Filed: March 20, 2002.

Due Date for Answers, Conforming Applications, or Motion to Modify Scope: April 10, 2002.

Description: Application of Continental Airlines, Inc., requesting amendment of its Route 561 certificate authority to incorporate New York/Newark-Acapulco/Puerto Vallarta/San Jose del Cabo and Houston-Mazatlan exemption authority currently held by Continental.

Docket Number: OST-2002-11905.

Date Filed: March 21, 2002.

Due Date for Answers, Conforming Applications, or Motion to Modify Scope: April 11, 2002.

Description: Application of JetConnection Businessflight AG, pursuant to 49 U.S.C. Section 41302, Subpart B and 14 CFR part 211, requesting a foreign air carrier permit to engage in charter foreign air transportation of persons, property, and cargo between: (1) Any point or points in Germany and any point or points in the United States; (2) between any point or points in the United States and any point or points in a third country or countries, provided that, except with respect to cargo charters, such service constitutes part of a continuous operation, with or without a change of aircraft, that includes service to Germany for the purpose of carrying local traffic between Germany and the United States; and, (3) on other charter flights between points in the United States and points in third countries in accordance with the provisions of 14 CFR part 212.

Docket Number: OST-1997-2764.

Date Filed: March 22, 2002.

Due Date for Answers, Conforming Applications, or Motion to Modify Scope: April 12, 2002.

Description: Application of Federal Express Corporation (Federal Express), pursuant to 49 U.S.C. Section 41102 and Subpart B, requesting renewal and amendment of its certificate of public convenience and necessity for Route 748, to engage in scheduled foreign air transportation of property and mail between points in the United States, on the one hand, and points in Colombia, on the other hand, via intermediate points, and beyond Colombia to points in the western hemisphere. Federal Express further requests authority to operate its services between the United States and Colombia in conjunction with other scheduled all-cargo services operated by Federal Express between the United States and points in Central and South America, Mexico, Canada, Europe, the Middle East and Africa, subject to existing bilateral provisions.

Cynthia L. Hatten,
Federal Register Liaison.

[FR Doc. 02-7910 Filed 4-1-02; 8:45 am]

BILLING CODE 4910-62-P